DEPARTMENT OF THE INTERIOR

Fish and Wildlife Service

North American Wetlands Conservation Council (Council); Meeting Announcement

AGENCY: U.S. Fish and Wildlife Service, Interior.

ACTION: Notice of meeting.

SUMMARY: The Council will meet at 1 p.m., July 14, 2000, to select North American Wetlands Conservation Act (NAWCA) proposals for recommendations to the Migratory Bird Conservation Commission. The meeting is open to the public.

DATES: July 14, 2000, 1 p.m.

ADDRESSES: The meeting will be held in the Bessborough Hotel, 601 Spadina Crescent East, Saskatoon, Saskatchewan, Canada. The Council Coordinator is located at U.S. Fish and Wildlife Service, 4401 N. Fairfax Drive, Suite 110, Arlington, Virginia 22203.

FOR FURTHER INFORMATION CONTACT: David A. Smith, Council Coordinator, (703) 358-1784.

SUPPLEMENTARY INFORMATION: In accordance with NAWCA (Pub. L. 101-233, 103 Stat. 1968, December 13, 1989, as amended), the State-private-Federal Council meets to consider wetland acquisition, restoration, enhancement and management projects for recommendation to, and final funding approval by, the Migratory Bird Conservation Commission. Proposals require a minimum of 50 percent non-Federal matching funds.

Dated: June 8, 2000.
Jamie Rappaport Clark,
Director, U.S. Fish and Wildlife Srvice.

[FR Doc. 00-15764 Filed 6-21-00; 8:45 am]

BILLING CODE 4310-55-M